DEPARTMENT OF TRANSPORTATION

Federal Aviation Administration

14 CFR Part 71

[Docket No. FAA-2021-0208; Airspace Docket No. 21-ANM-5]

RIN 2120-AA66

Amendment of Class E Airspace; Missoula, MT; Correction

AGENCY: Federal Aviation Administration (FAA), DOT.

ACTION: Final rule; correction.

SUMMARY: The Federal Aviation Administration (FAA) is correcting a final rule that appeared in the Federal Register on June 16, 2021. The rule modified the Class E airspace extending upward from 1,200 feet above the surface at Missoula International Airport, Missoula, MT. The Final Rule inadvertently used the word “about” instead of “above” when describing the airspace area. This action corrects the legal description for the Class E airspace extending upward from 1,200 feet above the surface.

DATES: Effective 0901 UTC, August 12, 2021. The Director of the Federal Register approves this incorporation by reference action under 1 CFR part 51, subject to the annual revision of FAA Order 7400.11 and publication of conforming amendments.

FOR FURTHER INFORMATION CONTACT: Matthew Van Der Wal, Federal Aviation Administration, Western Service Center, Operations Support Group, 2200 S 216th Street, Des Moines, WA 98198; telephone (206) 231-3695.

SUPPLEMENTARY INFORMATION:

History

The FAA published a final rule in the Federal Register (86 FR 31907; June 16, 2021) for Docket FAA-2021-0208 amending the Class E airspace extending upward from 1,200 feet above the surface at Missoula International Airport, Missoula, MT. Subsequent to publication, the FAA identified an error in the wording used to describe this Class E airspace area. This action corrects that error.

Class E5 airspace designations are published in paragraph 6005 of FAA Order 7400.11E, dated July 21, 2020, and effective September 15, 2020, which is incorporated by reference in 14 CFR 71.1. The Class E airspace designation listed in this document will be published subsequently in the Order.

Correction to Final Rule

Accordingly, pursuant to the authority delegated to me, Amendment of the Class E Airspace; Missoula, MT, published in the Federal Register of June 16, 2021 (86 FR 31907), FR Doc. 2021-12662, is corrected as follows:

§ 71.1 [Corrected]

1. On page 31908, in the third column, beginning with line 35, the legal description for ANM MT E5 is corrected to read:

ANM MT E5 Missoula, MT [Amended]

Missoula International Airport, MT

(Lat. 46°54′59″ N, long. 114°05′26″ W)

That airspace extending upward from 700 feet above the surface within 3.5 miles each side of the 311° bearing extending from the Class D 4.4-mile radius to 22.3 miles northwest of the airport, and 1.6 miles west and 4.3 miles east of the 179° bearing extending from the Class D 4.4-mile radius to 15.2 miles south of the airport, and that airspace extending upward from 1,200 feet above the surface within a 46-mile radius of the Missoula International Airport.

Issued in Des Moines, Washington, on July 1, 2021.
B.G. Chew,
Acting Group Manager, Western Service Center, Operations Support Group.

[FR Doc. 2021-14553 Filed 7-8-21; 8:45 am]

BILLING CODE 4910-13-P